FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than September 6, 2022.

A. Federal Reserve Bank of Chicago (Colette A. Fried, Assistant Vice President) 230 South LaSalle Street, Chicago, Illinois 60690-1414:

1. The Revocable Trust Agreement No. 060134, James O. Beavers, trustee, both of Taylorville, Illinois; to retain voting shares of First Bancorp of Taylorville, Inc., and thereby indirectly retain voting shares of First National Bank in Taylorville, both of Taylorville, Illinois.

B. Federal Reserve Bank of Minneapolis (Chris P. Wangen, Assistant Vice President), 90 Hennepin Avenue, Minneapolis, Minnesota 55480-0291. Comments can also be sent electronically to MA@mpls.frb.org:

1. Tyler Engstrom, Westhope, North Dakota; to acquire voting shares of Peoples State Holding Company (Company), and thereby indirectly acquire voting shares of Peoples State Bank (Bank), both of Westhope, North Dakota. Additionally, Tyler Engstrom; Curtis Moum, Westhope, North Dakota; and Darin Bohl, Bottineau, North Dakota, as a group acting in concert, to acquire voting shares of Company and thereby indirectly acquire voting shares of Bank.

Board of Governors of the Federal Reserve System.
Michele Taylor Fennell,
Deputy Associate Secretary of the Board.

[FR Doc. 2022-17925 Filed 8-18-22; 8:45 am]

BILLING CODE P